DEPARTMENT OF HOMELAND SECURITY

Federal Emergency Management Agency

Notice of Maximum Amount of Assistance Under the Individuals and Households Program

AGENCY: Federal Emergency Management Agency, DHS.

ACTION: Notice.

SUMMARY: FEMA gives notice of the maximum amounts for assistance under the Individuals and Households Program for emergencies and major disasters declared on or after October 1, 2007.

DATES: Effective Date: October 1, 2007, and applies to emergencies and major disasters declared on or after October 1, 2007.

FOR FURTHER INFORMATION CONTACT: Berl D. Jones, Jr., Disaster Assistance Directorate, Federal Emergency Management Agency, Washington, DC 20472, (202) 646-4235.

SUPPLEMENTARY INFORMATION: Section 408 of the Robert T. Stafford Disaster Relief and Emergency Assistance Act (the Act), 42 U.S.C. 5174, prescribes that FEMA must annually adjust the maximum amounts for assistance provided under the Individuals and Households (IHP) Program. FEMA gives notice that the maximum amount of IHP financial assistance provided to an individual or household under section 408 of the Act with respect to any single emergency or major disaster is $28,800. The increase in award amount as stated above is for any single emergency or major disaster declared on or after October 1, 2007.

FEMA bases the adjustment on an increase in the Consumer Price Index for All Urban Consumers of 2.0 percent for the 12-month period ended in August 2007. The Bureau of Labor Statistics of the U.S. Department of Labor released the information on September 19, 2007.

(Catalog of Federal Domestic Assistance No. 97.048, Individuals and Households—Housing; 97.049, Individuals and Households—Disaster Housing Operations; 97.050, Individuals and Households—Other Needs)

R. David Paulison,
Administrator, Federal Emergency Management Agency.

[FR Doc. E7-19834 Filed 10-5-07; 8:45 am]

BILLING CODE 9110-10-P